FEDERAL COMMUNICATIONS COMMISSION

[DA 01-1264]

Network Practices

AGENCY: Federal Communications Commission.

ACTION: Notice.

SUMMARY: The Federal Communication Commission seeks comment on a Petition for Inquiry into Network Practices filed in behalf of Network Affiliated Stations Alliance.

DATES: Comments must be filed on or before July 23, 2001; reply comments must be filed on or before August 22, 2001.

ADDRESSES: Federal Communications Commission, 445 12th Street, S.W., Washington, D.C. 20554.

FOR FURTHER INFORMATION CONTACT: Mania K. Baghdadi, Policy and Rules Division, Mass Media Bureau, at 418-2120.

SUPPLEMENTARY INFORMATION: This is a synopsis of the Public Notice (“Notice”), DA 01-1264, released May 22, 2001. The Petition and all subsequently filed documents are available for public inspection and copying during normal business hours in the Commission's Reference Information Center located at Room CY-A257, 445 Twelfth Street, S.W., Washington, D.C. 20554 and may also be purchased from the Commission's copy contractor, International Transcription Service (“ITS”), 202-857-3800, 445 12th Street, S.W., Room CY-B402, Washington, D.C.

Synopsis of Public Notice

1. On March 8, 2001, Network Affiliated Stations Alliance (“NASA”) filed a Petition for Inquiry into Network Practices (“Petition”). NASA's Petition asked the FCC to institute an inquiry as to whether certain alleged practices of the top four television networks with respect to their affiliates are consistent with the Commission's network rules, CFR 73.658; the Communications Act; and the public interest. In addition, NASA asked that the Commission examine, in the inquiry, what additional steps it should take to “limit or prevent other improper network conduct not deemed to violate existing rules.” In a letter, dated May 2, 2001, submitted to the Commission, counsel for NASA urged that the Commission treat its Petition as a petition for declaratory relief (Letter to Michael Powell, Chairman, from Wade H. Hargrove and Jonathan D. Blake, Counsel for the Network Affiliated Stations Alliance, May 2, 2001). In response to this letter, the four major networks raised procedural concerns about the NASA Petition and denied that they had violated the Commission's rules (Letter to Michael K. Powell, Chairman, from Maureen O'Connell, Fox Broadcasting Company; Anne Lucey, Viacom, Inc.; Diane Zipursky, National Broadcasting Company, Inc.; and Susan Fox, The Walt Disney Company, May 14, 2001. The foregoing networks have also submitted letters with respect to the ex parte status of the NASA Petition). As indicated in the Petition and subsequent letters from NASA and the top four networks, the parties disagree as to whether the Commission should take action with respect to the Petition, and, if so, as to the procedural context of any such Commission response. No decision has been reached as to this issue and none is expressed or implied by our action here.

2. By this Notice, comment is sought on the Petition and the responses to the Petition. Interested parties may submit comments. Comments and replies should specifically reference this Notice (DA 01-1264). Commenters must file an original and four copies of all comments and reply comments with the Commission's Secretary: Magalie Roman Salas, Office of the Secretary, Federal Communications Commission, 445 12th St., SW, Room TW-A325, Washington, D.C. 20554.

3. Ex parte status: In order to permit a full exchange of views on the multiple issues raised in the Petition, and given NASA's clarification that it is seeking a declaratory ruling rather than specific enforcement action, we have concluded that the public interest would be served by classifying this proceeding as permit-but-disclose under the ex parte rules. Accordingly, by this Notice, and pursuant to § 1.1200(a) of the Commission's rules, we announce that this proceeding will be governed by permit-but-disclose ex parte procedures that are applicable to nonrestricted proceedings under § 1.1206 of the Commission's rules.

4. Permit-but-disclose ex parte procedures permit interested parties to make ex parte presentations to the Commissioners and Commission employees and require that these presentations be disclosed in the record of the relevant proceeding. Persons making a written ex parte presentation to the Commissioners or Commission employees must file the written presentation with the Commission, as set forth, no later than the next business day after the presentation. Section 1.1206(b)(1). Persons making oral ex parte presentations must file a summary of the presentation, and deliver copies to the Commissioners or Commission employees involved with the presentation no later than the next business day after the presentation. Section 1.1206(b)(2). All ex parte filings must be clearly labeled as such and must reference this Notice, as well as any other applicable docket or file numbers.

5. An original and one copy of all memoranda must be filed with the Commission's Secretary, Magalie Roman Salas, in accordance with § 1.1206(b)(1) of the Commission's Rules. In addition, one copy of each ex parte memorandum should be delivered to each of the following locations: (1) The Commission's duplicating contractor ITS, and (2) Mania K. Baghdadi, Policy and Rules Division, Mass Media Bureau, 445 Twelfth Street, S.W., Room 2-C267, Washington, D.C. 20554.

Federal Communications Commission.
Roy J. Stewart,
Chief, Mass Media Bureau.

[FR Doc. 01-14934 Filed 6-13-01; 8:45 am]

BILLING CODE 6712-01-P